DEPARTMENT OF AGRICULTURE

Office of the Secretary

Notice of the Specialty Crop Committee's Stakeholder Listening Session

AGENCY: Research, Education, and Economics, USDA.

ACTION: Notice of stakeholder listening session.

SUMMARY: In accordance with the Federal Advisory Committee Act, 5 U.S.C. App 2, the United States Department of Agriculture announces a stakeholder listening session of the Specialty Crop Committee, under the auspices of the National Agricultural Research, Extension, Education, and Economics Advisory Board.

DATES: The Specialty Crop Committee will hold the stakeholder listening session on March 13, 2009 from 9 a.m.-3 p.m.

ADDRESSES: The stakeholder listening session of the Specialty Crop Committee will take place at the headquarters of the Florida Fruit and Vegetable Growers Association, 800 Trafalgar Court, Suite 200, Maitland, FL 32751.

The public may file written comments before or up to two weeks after the listening session with the contact person identified in this notice at: The National Agricultural Research, Extension, Education, and Economics Advisory Board Office, U.S. Department of Agriculture, Room 344-A, Jamie L. Whitten Building, 1400 Independence Avenue, SW., Washington, DC 20250-2255.

FOR FURTHER INFORMATION CONTACT: Bruce Mertz, Acting Executive Director, National Agricultural Research, Extension, Education, and Economics Advisory Board; telephone: (202) 720-3684; fax: (202) 720-6199; or e-mail: bmertz@csrees.usda.gov.

SUPPLEMENTARY INFORMATION: The Specialty Crop Committee was established in accordance with the Specialty Crops Competitiveness Act of 2004 under Title III, Section 303 of Public Law 108-465, as amended under the Food, Conservation, and Energy Act of 2008, under Title VII, Section 7103 of Public Law 110-246. This Committee is a permanent committee of the National Agricultural Research Extension, Education, and Economics Advisory Board (the Board). The Committee's charge is to study the scope and effectiveness of research, extension, and economics programs affecting the specialty crop industry. The congressional legislation defines “specialty crops” as fruits, vegetables, tree nuts, dried fruits and nursery crops (including floriculture). In order to carry out its responsibilities effectively, the Committee is holding a stakeholder listening session. The listening session will elicit stakeholder input from industry and state representatives, national organizations and institutions, local producers, and other groups about topics of relevance to research, extension or economics programs on which the Specialty Crop Committee is charged to report through the Board to the Secretary of Agriculture and Congress. Several panel sessions will be organized to stimulate discussion, each relating to one or more specific issues delineated in the Committee's charge. Each panel will be followed with questions by Committee members and opportunity for brief presentations and general discussion from the floor. Also, written comments by attendees and other interested stakeholders will be welcomed as additional public input before and up to two weeks following the listening sessions. All statements will become part of the official public record of the Board's Specialty Crop Committee.

Done at Washington, DC this 12th day of February 2009.
Katherine Smith,
Acting Deputy Under Secretary, Research, Education, and Economics.

[FR Doc. E9-4983 Filed 3-9-09; 8:45 am]

BILLING CODE 3410-03-P